DEPARTMENT OF THE INTERIOR

Fish and Wildlife Service

[FWS-R6-ES-2019-N144; FXES11140600000-201-FF06E00000]

Endangered and Threatened Wildlife and Plants; Initiation of 5-Year Status Review of Grizzly Bear (Ursus arctos horribilis) in the conterminous United States

AGENCY: Fish and Wildlife Service, Interior.

ACTION: Notice of initiation of review; request for information.

SUMMARY: We, the U.S. Fish and Wildlife Service, are initiating a 5-year status review of Grizzly bear (Ursus arctos horribilis) in the conterminous United States under the Endangered Species Act. A 5-year status review is based on the best scientific and commercial data available at the time of the review; therefore, we are requesting submission of any new information on this species that has become available since the last review of the species in 2011.

DATES: To ensure consideration in our review, we are requesting submission of new information no later than March 16, 2020. However, we will continue to accept new information about the species at any time.

ADDRESSES: Submitting Information: If you wish to provide information on the grizzly bear, please submit your information and materials by one of the following methods:

• Internet: By email to grizzly_review@fws.gov.

• U.S. mail or hand-delivery: U.S. Fish and Wildlife Service, Grizzly Bear Recovery Office, University of Montana, University Hall #309, Missoula, MT 59812.

Reviewing Submitted Information: Submissions and materials received are available for public review upon request at the Grizzly Bear Recovery Office listed in ADDRESSES during normal business hours. For more information, see Public Availability of Submissions under SUPPLEMENTARY INFORMATION.

FOR FURTHER INFORMATION CONTACT: Hilary Cooley, Grizzly Bear Recovery Coordinator, via telephone 406-243-4903 or via the Federal Relay Service at 800-877-8339 for TTY assistance.

SUPPLEMENTARY INFORMATION: We, the U.S. Fish and Wildlife Service, are initiating a 5-year status review of Grizzly bear (Ursus arctos horribilis) in the conterminous United States under the Endangered Species Act of 1973, as amended (Act; 16 U.S.C. 1531 et seq.). A 5-year status review is based on the best scientific and commercial data available at the time of the review; therefore, we are requesting submission of any new information on this species that has become available since the last review of the species in 2011.

Why do we conduct 5-year status reviews?

Under the Act, we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year status reviews, go to http://www.fws.gov/endangered/what-we-do/recovery-overview.html, scroll down to “Learn More about 5-Year Status Reviews,” and click on our factsheet.

What information do we consider in our review?

A 5-year status review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year status review and will also be useful in evaluating the ongoing recovery programs for the species.

Which species are under review?

This notice announces our active review of the grizzly bear in the conterminous United States.

Request for New Information

To ensure that a 5-year status review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

How do I ask questions or provide information?

Please see ADDRESSES and FOR FURTHER INFORMATION CONTACT.

Public Availability of Submissions

Before including your address, phone number, email address, or other personal identifying information in your submission, you should be aware that your entire submission—including your personal identifying information—may be made publicly available at any time. While you can ask us in your submission to withhold your personal identifying information from public review, we cannot guarantee that we will be able to do so.

Contents of Public Submissions

Please make your submissions as specific as possible. Please confine your submissions to issues for which we seek input in this notice, and explain the basis for your submissions. Include sufficient information with your submissions to allow us to authenticate any scientific or commercial data you include.

The information and recommendations that will be most useful and likely to be relevant to agency decisions are: (1) Those supported by quantitative information or studies; and (2) Those that include citations to, and analyses of, the applicable laws and regulations.

Completed and Active Reviews

A list of all completed and currently active 5-year status reviews addressing species for which the Mountain-Prairie Region of the U.S. Fish and Wildlife Service has lead responsibility is available at http://www.fws.gov/endangered/.

Authority

This document is published under the authority of the Endangered Species Act of 1973, as amended (16 U.S.C. 1531 et seq.).

Matt Hogan,
Deputy Regional Director, Mountain-Prairie Region.

[FR Doc. 2020-00401 Filed 1-13-20; 8:45 am]

BILLING CODE 4333-15-P